OFFICE OF SCIENCE AND TECHNOLOGY POLICY

Notice of Request for Information; Accelerating the American Scientific Enterprise

AGENCY: Office of Science and Technology Policy.

ACTION: Request for information.

SUMMARY: The Office of Science and Technology Policy (OSTP) requests input from all interested parties on Federal policy updates that aim to accelerate the American scientific enterprise, enable groundbreaking discoveries, and ensure that scientific progress and technological innovation benefit all Americans. Through this Request for Information (RFI), OSTP seeks input from academia; private sector organizations; industry groups; state, local, and tribal governments; and other stakeholders regarding priorities for strengthening the science and technology (S&T) ecosystem to support both the expansion of scientific knowledge and the mechanisms to transition these discoveries into the marketplace. This RFI will inform the formulation of Executive branch efforts to advance and maintain U.S. S&T leadership.

DATES: Interested persons are invited to submit comments on or before 11:59 p.m. (ET) December 26, 2025.

ADDRESSES: Interested individuals and organizations should submit comments electronically via the Federal eRulemaking Portal at http://www.regulations.gov by searching the Docket ID number OSTP-TECH-2025-0100. Comments submitted in response to this notice should be submitted electronically through the Federal eRulemaking Portal at http://www.regulations.gov by selecting the Docket ID number. Information on how to use regulations.gov, including instructions for accessing agency documents, submitting comments, and viewing the docket, is available on the site under “FAQ” (https://www.regulations.gov/faq).

Instructions

Response to this RFI is voluntary. Please note that all submissions received in response to this notice may be posted on https://www.regulations.gov/ or otherwise released in their entirety.

Do not include in your submissions any copyrighted material; information of a confidential nature, such as personal or proprietary information; or any information you would not like to be made publicly available.

OSTP will not respond to individual submissions. A response to this RFI will not be viewed as a binding commitment to develop or pursue the project or ideas discussed. This RFI is not accepting applications for financial assistance or financial incentives.

Responses containing references, studies, research, and other empirical data that are not widely published should include copies of or electronic links to the referenced materials. Responses from minors, or responses containing profanity, vulgarity, threats, or other inappropriate language or content will not be considered.

Comments submitted in response to this notice are subject to the Freedom of Information Act (FOIA). Please note that the United States Government will not pay for response preparation or for the use of any information contained in a response.

FOR FURTHER INFORMATION CONTACT: For additional information, please direct questions to Sihao Huang at engagement@ostp.eop.gov.

SUPPLEMENTARY INFORMATION: America's scientific enterprise is a complex machine comprising researchers, institutions, publishers, funders, and private-sector organizations that turn discoveries into reality—all supported by a public that both shapes and benefits from scientific progress. For decades, this enterprise has made American science the envy of the world. Our innovation engine has powered America's dominance across industries, improved health outcomes nationwide, and fueled the greatest period of prosperity in history.

However, scientific discovery and technological progress are never guaranteed. They require the concentrated effort of individuals and organizations. Over the past century, America relentlessly reinvented the machinery of science itself. Examples include establishing university research programs, marrying large-scale engineering with scientific exploration across America's national laboratories, founding the National Science Foundation, launching the Apollo Program to win the Space Race, and pioneering the venture capital model.

Today, multiple forces are reshaping how scientific research is conducted. New institutional models like focused research organizations operate outside traditional academic structures; emerging questions in fields like quantum information science and biology require ever-closer collaboration between engineering and basic science; and rapid progress in AI promises to accelerate discovery cycles. These shifts demand continuous improvement in how the Federal government supports scientific research. Simultaneously, America's strategic competitors have placed unprecedented focus on scientific advancement. While the U.S. retains a leading global position, breakthrough research that advances our short- and long-term national security and economic competitiveness is now more urgently needed than ever.

These converging factors, which include new scientific opportunities, intensifying global competition, and evidence that traditional approaches to research could be greatly improved, call for a comprehensive assessment of how the Federal government prioritizes and structures scientific research.

Specifically, OSTP invites responses to one or more of the following questions:

(i) What policy changes to Federal funding mechanisms, procurement processes, or partnership authorities would enable stronger public-private collaboration and allow America to tap into its vast private sector to better drive use-inspired basic and early-stage applied research?

(ii) How can the Federal government better support the translation of scientific discoveries from academia, national laboratories, and other research institutions into practical applications? Specifically, what changes to technology transfer policies, translational programs, or commercial incentives would accelerate the path from laboratory to market?

(iii) What policies would encourage the formation and scaling of regional innovation ecosystems that connect local businesses, universities, educational institutions, and the local workforce—particularly in areas where the Federal government has existing research assets like national laboratories or federally-funded research centers?

(iv) How can Federal policies strengthen the role played by small- and medium-sized businesses as both drivers of innovation and as early adopters of emerging technologies?

(v) What empirically grounded findings from metascience research and progress studies could inform Federal grantmaking processes to maximize scientific productivity and increase total return on investment? Please provide specific examples of evidence-based reforms that could improve funding allocation, peer review, or grant evaluation.

(vi) What reforms will enable the American scientific enterprise to pursue more high-risk, high-reward research that could transform our scientific understanding and unlock new technologies, while sustaining the incremental science essential for cumulative production of knowledge?

(vii) How can the Federal government support novel institutional models for research that complement traditional university structures and enable projects that require vast resources, interdisciplinary coordination, or extended timelines?

(viii) How can the Federal government leverage and prepare for advances in AI systems that may transform scientific research—including automated hypothesis generation, experimental design, literature synthesis, and autonomous experimentation? What infrastructure investments, organizational models, and workforce development strategies are needed to realize these capabilities while maintaining scientific rigor and research integrity?

(ix) What specific Federal statutes, regulations, or policies create unnecessary barriers to scientific research or the deployment of research outcomes? Please describe the barrier, its impact on scientific progress, and potential remedies that would preserve legitimate policy objectives while enabling innovation.

(x) How can Federal programs better identify and develop scientific talent across the country, particularly leveraging digital tools and distributed research models to engage researchers outside traditional academic centers?

(xi) How can the Federal government foster closer collaboration among scientists, engineers, and skilled technical workers, and better integrate training pathways, recognizing that breakthrough research often requires deep collaboration between theoretical and applied expertise?

(xii) What policy mechanisms would ensure that the benefits of federally-funded research—including access to resulting technologies, economic opportunities, and improved quality of life—reach all Americans?

(xiii) How can the Federal government strengthen research security to protect sensitive technologies and dual-use research while minimizing compliance burdens on researchers?

(Authority: 42 U.S.C. 6613.)

Dated: November 21, 2025.
Stacy Murphy,
Deputy Chief Operations Officer/Security Officer.

[FR Doc. 2025-21150 Filed 11-25-25; 8:45 am]

BILLING CODE 3270-F1-P